DEPARTMENT OF TRANSPORTATION

Federal Aviation Administration

14 CFR Part 71

[Airspace Docket No. FAA-01-ANM-16]

Establishment of Class E Airspace at Richfield Municipal Airport, Richfield, UT

AGENCY: Federal Aviation Administration (FAA), DOT.

ACTION: Final rule; correction.

SUMMARY: This action changes the effective date for the establishment of the Class E Airspace at Richfield Municipal Airport, Richfield, UT, to allow sufficient time for airspace charting and publication to coincide with the public's access to recently developed Area Navigation (RNAV)/Global Positioning (GPS) Standard Terminal Arrival Routes (STARs) and Departure Procedures (DPs).

EFFECTIVE DATE: 0900 UTC, September 4, 2003.

FOR FURTHER INFORMATION CONTACT: Ed Haeseker, ANM-520.7; telephone (425) 227-2527; Federal Aviation Administration, Docket Number 01-ANM-16, 1601 Lind Avenue, SW., Renton, Washington 98055-4056.

SUPPLEMENTARY INFORMATION:

The Rule

Airspace Docket 01-ANM-16, published on May 7, 2003 (68 FR 24341), established Class E Airspace at Richfield Municipal Airport, Richfield, UT effective date of May 7, 2003. This action changes the effective date to September 4, 2003, to allow sufficient time for airspace charting and publication to coincide with public access to the RNAV procedures at Richfield Municipal Airport, Richfield, UT.

List of Subjects in 14 CFR Part 71

Airspace, Incorporation by reference, Navigation (air).

Correction to Final Rule

The effective date on Airspace Docket No. 01-ANM-16 is hereby corrected to September 4, 2003.

Authority: 49 U.S.C. 106(g); 40103, 40113, 40120; E.O. 10854, 24 FR 9565, 3 CFR, 1959-1963 Comp., p. 389.

Issued in Seattle, Washington, on June 16, 2003.
ViAnne Fowler,
Acting Assistant Manager, Air Traffic Division, Northwest Mountain Region.

[FR Doc. 03-16226 Filed 6-25-03; 8:45 am]

BILLING CODE 4910-13-M